ENVIRONMENTAL PROTECTION AGENCY

[FRL-7584-4]

Border 2012 National Coordinators Open Meeting

AGENCY: Environmental Protection Agency.

ACTION: Notice of Border 2012 National Coordinators Meeting.

SUMMARY: The U.S. Environmental Protection Agency (EPA) and the Secretaría del Medio Ambiente y Recursos Naturales (Mexico's Secretariat of Environment and Natural Resources), in conjunction with the U.S. Department of Health and Human Services, Secretaría de Salud (Mexico's Secretariat of Health), the U.S. border tribes, and the environmental agencies from each of the ten U.S.-Mexico border states, will convene the Border 2012 National Coordinator's Meeting (NCM). This National Coordinators Meeting will take place at the Holiday Inn Hotel, Av. Pedro Cardenas 5001 Carretera a Cd. Victoria, Matamoros, 87396, Mexico. Public meetings will be held on the afternoon of Wednesday, December 3rd and all day on Thursday, December 4th.

The mission of Border 2012 is to protect public health and the environment in the U.S.-Mexico border region, consistent with the principles of sustainable development. The Border 2012 Program is the latest multi-year, binational planning effort to be implemented under the 1983 U.S.-Mexico Agreement on Cooperation for the Protection and Improvement of the Environment in the Border Area (the La Paz Agreement). Border 2012 succeeds Border XXI, a five-year program that ended in 2000.

The National Coordinators Meeting is an important aspect of the Border 2012 Program. Federal-level National Coordinators from the United States and Mexico manage overall Border 2012 Program implementation and ensure cooperation and communication among all coordinating bodies. This meeting will provide an opportunity for program partners to report on their activities to each other and to the public. The 3 Policy Forums focus on Air, Water and Hazardous Waste and Solid Waste, respectively. The 3 Border-wide Workgroups focus on Environmental Health, Emergency Preparedness and Response (Joint Response Team), and Cooperative Enforcement and Compliance.

For further information on Border 2012 or the National Coordinators Meeting, please contact: EPA El Paso Border Office at 915-533-7273 or 800-334-0741 or EPA San Diego Border Office at 619-235-4765 or 800-334-0741.

Joan Fidler,
Director, Office of Western Hemisphere and Bilateral Affairs, Office of International Affairs.

[FR Doc. 03-27953 Filed 11-5-03; 8:45 am]

BILLING CODE 6560-50-P